DEPARTMENT OF COMMERCE

Bureau of the Census

[Docket Number: 150630568-5568-01]

2020 Census Tribal Consultation Meetings

AGENCY: Bureau of the Census, Commerce.

ACTION: Notice of 2020 Census tribal consultation meetings.

SUMMARY: Pursuant to Executive Order 13175, the Bureau of the Census (Census Bureau) plans to conduct eight tribal consultation meetings and one national webinar with federally recognized tribes across the country between October 2015 and April 2016. These meetings will provide a forum for tribes to share insights, make recommendations and discuss concerns related to the 2020 Census. The Census Bureau's procedures for outreach, notice and consultation will ensure involvement of tribes, to the extent practicable and permitted by law, before making decisions or implementing policies, rules or programs that affect federally recognized tribal governments. The Census Bureau requests that interested members of the public comment with any questions or topics they would like to see considered in these meetings. For a list of dates, locations and times please check http://webdev.ssd.census.gov/aian/census_2020/. These meetings are open to members of federally recognized tribes by invitation.

DATES: Any questions or topics to be considered in the tribal consultation meetings must be received in writing by September 30, 2015.

ADDRESSES: Please direct all comments on this notice to Angel L. Petty, Program Assistant, 2020 Partnership and Outreach Staff, Decennial Communications and Budget Office (DCBO), U.S. Census Bureau Washington, DC 20233; telephone (301) 763-2231 or fax (301) 763-2231 or by email Angel.L.Petty@census.gov.

FOR FURTHER INFORMATION CONTACT: Angel L. Petty, Program Assistant, 2020 Partnership and Outreach Staff, Decennial Communications and Budget Office, U.S. Census Bureau, at the above listed address and telephone number.

SUPPLEMENTARY INFORMATION:

Background

The Census Bureau's Decennial Directorate and the Intergovernmental Affairs Office is responsible for the development and implementation of outreach and promotion activities to assist in obtaining a complete and accurate census count in 2020 among all residents including the American Indian and Alaska Native (AIAN) populations. This program is one part of the overall outreach and promotion efforts directed at building awareness about the importance of the census and motivating response to the census in communities all across the country.

In accordance with Executive Order 13175, Consultation and Coordination with Indian Tribal Governments, issued November 6, 2000, the Census Bureau will be adhering to its tribal consultation policy by seeking the input of tribal governments in the planning and implementation of the 2020 Census with the goal of ensuring the most accurate counts and data for the American Indian and Alaska Native population. In that regard, we are seeking comments with regard to the following operational topics:

Enumeration—Enumeration is the process of collecting data, and is the central focus of the decennial census operation. Most successful enumeration occurs at the respondent's domicile either through self-response, or through some method of non-response follow-up. The Census Bureau is exploring ways to increase its self-response rates, and is developing tools to ease the burden of responding by leveraging technology, and exploring new modalities to promote Internet response.

Demographic Statistics—Demographic statistics provide information that is used to develop an understanding of the age, sex, and racial composition of a population and how it has changed over time through the basic demographic processes of birth, death, and migration.

Geography—Geography is a determinative part of the decennial census operation because it provides meaning and context to decennial census counts. Geographic planning provides the framework for census design, data collection, tabulation, and data dissemination. The Census Bureau seeks to use the latest and best geographic methodologies available to support the decennial census.

2020 Census Field Partnerships and Recruitment—Partnership efforts focus on maximizing public engagement in the decennial census process in an effort to keep the public informed, encourage self-response, and assist with recruiting the workforce necessary to complete the decennial census. Partnership efforts are directed at individuals from all walks of life, as well as the widest variety of public, private and governmental organizations.

2020 Census Communications and Planning—Communications planning seeks to motivate the entire population of the 50 states and its territories, to participate in the decennial census and its partnership activities. Communications planning will culminate in a communications campaign that will focus on, increasing participation in self-response options, improving accuracy, reducing the differential undercount and improving cooperation with enumerators and field operations.

For additional information on the tribal consultation sessions please visit: http://webdev.ssd.census.gov/aian/census_2020/.

Dated: July 7, 2015.
John H. Thompson,
Director, Bureau of the Census.

[FR Doc. 2015-17029 Filed 7-10-15; 8:45 am]

BILLING CODE 3510-07-P